DEPARTMENT OF HEALTH AND HUMAN SERVICES

Centers for Disease Control and Prevention

[60Day-07-0728]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Electronic Disease Surveillance System (NEDSS)—(OMB Number 0920-0728) REVISION—National Center for Public Health Informatics, Centers for Disease Control and Prevention (CDC).

Background and Brief Description

CDC is responsible for the dissemination of nationally notifiable disease information and for monitoring and reporting the impact of epidemic influenza on mortality, Public Health Services Act (42 U.S.C. 241). In April 1984, CDC Epidemiology Program Office (EPO) in cooperation with the Council of State and Territorial Epidemiologists (CSTE) and epidemiologists in six states began a pilot project, the Epidemiologic Surveillance Project (ESP). The ESP is designed to demonstrate the efficiency and effectiveness of the computer transmission of surveillance data between CDC and the state health departments. Each state health department used its existing computerized disease surveillance system to transmit specific data concerning each case of a notifiable disease. CDC technicians developed computer software to automate the transfer of data from the state to CDC.

In June 1985, CSTE passed a resolution supporting ESP as a workable system for electronic transmission of notifiable disease case reports from the states/territories to CDC. As the program was extended beyond the original group of states, EPO began to provide software, training and technical support to state health department staff overseeing the transition from hard-copy to fully automated transmission of surveillance data.

By 1989, all 50 states were using this computerized disease surveillance system, which was then renamed the National Electronic Telecommunications System for Surveillance (NETSS) to reflect its national scope. Core surveillance data are transmitted to CDC by the states and territories through NETSS. NETSS has a standard record format for data transmitted and does not require the use of a specific software program. The ability of NETSS to accept records generated by different software programs makes it useful for the efficient integration of surveillance systems nationwide.

Since 1999, the CDC, Epidemiology Program Office (EPO) has worked with CSTE, state and local public health system staff, and other CDC disease prevention and control program staff to identify information and information technology standards to support integrated disease surveillance. That effort is now focused on development of the National Electronic Disease Surveillance System (NEDSS), coordinated by CDC's Deputy Director for Integrated Health Information Systems.

NEDSS will electronically integrate and link together a wide variety of surveillance activities and will facilitate more accurate and timely reporting of disease information to CDC and the state and local health departments. Consistent with recommendations from our state and local surveillance partners as described in the 1995 report, Integrating Public Health Information and Surveillance Systems, NEDSS includes data standards, an internet based communications infrastructure built on industry standards. It also includes policy-level agreements on data access, sharing, burden reduction, and protection of confidentiality. To support NEDSS, CDC is supporting the development of an information system, the NEDSS Base System (NBS), which will use NEDSS technical and information standards, (http://www.cdc.gov/od/hissb/doc/NEDSSBaseSysDescriptioin.pdf). CDC will receive reports from the 57 respondents (50 state, 2 cities, and 5 territorial health departments) using the NEDSS (NETSS replacement) umbrella of systems, that includes the National Electronic Telecommunications System for Surveillance (NETSS).

There are no costs to the respondents other than their time to participate in the survey.

Estimated Annualized Burden Hours
Respondents | Number of respondents | Number of responses per respondent | Average burden per response (in hours) | Total burden (in hours)
Weekly Reporting:
States | 50 | 52 | 3 | 7,800
Territories | 5 | 52 | 90/60 | 390
Cities | 2 | 52 | 3 | 312
Annual Reporting:
States | 50 | 1 | 16 | 800
Territories | 5 | 1 | 10 | 50
Cities | 2 | 1 | 16 | 32
Total |  |  |  | 9,384

Dated: August 23, 2007.
Maryam I. Daneshvar,
Acting Reports Clearance Officer, Centers for Disease Control and Prevention.

[FR Doc. E7-17401 Filed 8-31-07; 8:45 am]

BILLING CODE 4163-18-P